DEPARTMENT OF STATE

[Public Notice 3716]

Bureau of Educational and Cultural Affairs Request for Grant Proposals: Open Grants Competition

SUMMARY: The Office of Citizen Exchanges, Bureau of Educational and Cultural Affairs of the U.S. Department of State, announces an open competition for an assistance award program. U.S. public or private non-profit organizations meeting the provisions described in IRS regulation 26 CFR 1.501 [c] may apply to develop projects that link their international exchange interests with counterpart institutions/groups in ways supportive of the aims of the Bureau of Educational and Cultural Affairs.

Interested applicants should read the complete Federal Register announcement before addressing inquiries to the Office of Citizen Exchanges or submitting their proposals. Once the RFP deadline has passed, the Office of Citizen Exchanges may not discuss this competition in any way with applicants until after the Bureau program and project review process has been completed.

Announcement Name and Number

All communications concerning this announcement should refer to the Annual Open Grant Program. The announcement number is ECA/PE/C-02-1. Please refer to title and number in all correspondence or telephone calls to the Office of Citizen Exchanges.

FOR FURTHER INFORMATION CONTACT: Interested organizations/institutions must contact the Office of Citizen Exchanges, ECA/PE/C, Room 216, Bureau of Educational and Cultural Affairs, U.S. Department of State, 301 4th Street, SW., Washington, DC 20547, (202) 619-5348, to request detailed application packets which include award criteria; all application forms; and guidelines for preparing proposals, including specific criteria for preparation of the proposal budget.

Program Information

We welcome proposals that directly respond to the following suggestions in each of the following countries. Given budgetary considerations, projects in other countries and for other themes will not be eligible for consideration.

Applicants should carefully review the following recommendations for proposals in specific geographical areas:

Africa (AF)

Proposals are requested for projects that would advance sustainable democracy by building human capital in Sub-Saharan Africa, and strengthening partnerships between the United States and Africa in the thematic categories delineated below. These themes are presented in order to stimulate thinking and planning in areas important to the Office of Citizen Exchanges, but no guarantee is made or implied that grants will be made in all categories.

Proposals for single country, sub-regional and regional projects will be accepted. The Bureau encourages applicants to consider carefully the choice of target countries. In order to prevent duplication of effort, applicants should research the work of development agencies on the target themes, and select countries for which there has been limited investment on the issue, or for which exchange activities would complement—not duplicate—current programs.

ECA seeks programs for Sub-Saharan Africa that address the following themes:

1. Joining Forces to Combat HIV/AIDS

2. Education for Democracy

3. Conflict Management and Resolution

4. Trade and Investment; AGOA

5. Strengthening an Independent Media

6. Environmental Protection; Environmental Education; Wildlife Conservation

(Please note: A separate Request for Grant Proposals will be published by the Office of Citizen Exchanges for projects addressing governance partnerships in Sub-Saharan Africa.)

1. Joining Forces To Combat HIV/AIDS

The Bureau welcomes proposals for creative community-based initiatives that will promote better health care and prevent the spread of HIV/AIDS. Projects should explore the need to develop and reward leadership in these efforts, to improve community health education, and to remove barriers that impede a cooperative multi-sectoral response to HIV/AIDS. Projects should address some of following topics: Prevention and stigma reduction strategies for people living with HIV/AIDS, especially women and youth; engagement of political, religious, cultural and other leaders in public education efforts; grassroots mobilization and advocacy. Of special interest to the Bureau would be projects addressing the link between cultural practices, the empowerment of women and girls, and the spread of HIV/AIDS in Africa.

2. Education for Democracy

The Bureau welcomes proposals that strengthen civic education in Africa. Proposals should include development of curricula (in close cooperation with African partners), as well as training of teachers in participatory classroom methodologies. Curricula should focus on the role that individuals (in particular, youth) should and can play in a democracy. Issues to be addressed would include the meaning of civil society, the separation of powers, the role of non-governmental organizations, components of democracy, issues of national identity, democratic and team-centered approaches to decision-making, etc. The exchange should encompass both the theoretical and the experiential, with participants working with and learning from American teachers and young leaders. Of special interest to ECA are curricula that focus on leadership development for at-risk youth. Another special interest is school-based programs aimed as inculcating a culture of lawfulness that counters crime and corruption by educating young people on their civil, moral, and legal obligations to society.

3. Conflict Management and Resolution

If peace is to have meaning, citizens of the region must address one another in constructive ways, overcoming the fears and resentments that have built up over time. A project should include stakeholders from different nations, ethnic groups, or religious communities in an effort to expand the dialogue for coexistence. The Bureau is especially interested in proposals that highlight the role of civil society—including women and young leaders—in resolving conflicts and participating in negotiations for implementation of peace accords.

4. Trade and Investment; AGOA

The African Growth and Opportunities Act (AGOA), signed into law in May of 2000, offers qualifying African countries (there are 35 as of this time) preferential access to U.S. markets for their industries. We invite proposals to ‘jumpstart’ the AGOA process by providing medium and small African business entrepreneurs and members of business association's exposure to AGOA and to the American market in order to increase capacity to develop new African-U.S. trade linkages. Proposed programs should include activities to enhance participants' understanding of American business norms and actual practices, provide them with knowledge of U.S. customs operations, product distribution and retailing, and, finally, help them develop business linkages and relationships with manufacturers and businesses in their respective sectors.

5. Strengthening an Independent Media

We invite proposals to build professionalism in the media—i.e., gaining an appreciation of and skill for objective reporting; developing subject specialization (e.g. justice/legal issues); giving fair coverage to positive as well as negative news; separating comment from news coverage; avoiding inflammatory presentations; maintaining independence from special interests; etc. Concomitantly, attention must be given to laws that constrain freedom of information and to forces that urge journalists, editors, producers and publishers to censor themselves, lest governments punish the media for having conveyed the message. Program activities should emphasize hands-on activities such as professional internships, small group training and specially tailored projects, rather than academic seminars. Of special interest are programs on political reporting in a multi-party democracy.

6. Environmental Protection; Environmental Education; Wildlife Conservation

Environmental degradation undermines the quality of human life. It is closely linked, both directly and indirectly, with issues of public health (air and water pollution; solid waste management) and economic welfare (preservation of natural sites; eco-tourism; agricultural productivity; the rational management of natural resources). Environmental protection and conservation are trans-boundary issues, faced by all countries/entities. Projects are sought that enhance public awareness of the threat posed by environmental deterioration, that facilitate efforts to combat the threat by mobilizing either governmental or non-governmental organizations, and that work at multiple levels to educate and to develop solutions. Of special interest are projects that would build the capacity of national park systems, strengthen local economies, and promote regional/cross-border cooperation in the Great Lakes region (Rwanda, Uganda and the Democratic Republic of Congo), as well as projects to clean up major cities in other countries.

Contact for AF programs: Curtis Huff, 202/619-5972; e-mail chuff@pd.state.gov or James Ogul, 202/205-0535; e-mail: jogul@pd.state.gov.

East Asia and the Pacific (EAP)

For China

1. Rule of Law: Projects, which include the development of an independent judiciary, the enforcement of laws concerning intellectual property rights (IPR), government accountability and alternative dispute resolution (ADR). The objective is to expose officials, journalists, lawyers and other relevant professionals to the concepts and practice of law in the U.S.

2. WTO Implementation: Projects, which include TRIPS compliance, IPR enforcement, regulatory transparency, sector reforms and measures that government and business can take to ease the displacement of workers in the process of economic liberalization.

3. Volunteerism: Projects which emphasize the role that volunteer groups play in giving voice to citizens' concerns and how U.S. organizations have succeeded in developing effective volunteer networks in the U.S.

4. Women in Society: Projects which foster a dialogue on effectively addressing the common challenges women face in both countries, including the combating of family violence, a rapidly growing concern in China.

The need to involve individuals and organizations in the Western region of China's vast interior should be reflected in successful proposals, particularly in the Rule of Law and WTO proposals.

For Indonesia

1. Conflict resolution: Projects focused on the promotion of cultural and religious tolerance in an ethnically diverse society. Activities located in regions outside of Java, such as Aceh, Maluku, Irian Jaya/Papua are especially welcomed, as are those emphasizing the role of the media in promoting tolerance and the resolution of conflict.

2. Media: Projects, which emphasize the role that a free and professional media play in a democracy. Activities taking place outside of Jakarta are recommended, as is the involvement of media organizations such as the Press Council, the Alliance of Indonesian Journalists and Media Watch.

3. Rule of Law: Projects concentrated on the use of the legal system to improve the protection of human rights. Potential participants include: members of the Constitution Drafting Committee on the development of human rights law; lawyers and/or judges on the use of the court system to protect human rights; a human rights NGO on the provision of legal services for the indigent. Also favorably looked upon would be a project on the issues of reconciliation and justice, with the need for both.

For Malaysia

1. Intellectual Property Rights (IPR): Projects to design courses on recent developments in IPR law and cyber law. Malaysia, according to the USTR, is a main producer and exporter of pirated products, partially due to its lack of expertise in IPR law and low prosecution rates for IPR offenses. An institutional affiliation with the University of Malaya Law Faculty, including faculty exchanges and a possible distance education component, would help confront rampant IPR piracy and also contribute to a greater understanding of the U.S. legal system. Projects that incorporate workshops and training on these issues for staff of the Attorney General's office and the judiciary are also welcomed.

2. Judicial Reform: Projects to aid in the implementation of recent legal reforms, especially alternative dispute resolution and case management. Other high priority projects relate to judicial accountability, including training on the role of an independent judiciary, appropriate conduct for judges and institutional mechanisms for ensuring judicial independence and impartiality.

3. Mutual Understanding: Projects designed to strengthen meaningful exchange between young Malaysians and Americans, especially on issues pertaining to globalization, human rights and democracy. Because the numbers of Malaysians studying in the U.S. have recently and dramatically decreased, a generation of young professionals will soon have no direct knowledge or understanding of U.S. society. However, there is also growing interest in the Islamic community in the U.S.; thus a project focused on Islam and interfaith dialogue would help dispel what is perceived as the USG's “anti-Islamic” agenda.

For Mongolia

1. Media in a New Democracy: Projects that emphasize the role of a free and independent press in strengthening a new democracy and media strategies to accomplish that goal. Upgrade professional skills of journalists in order to bolster their role in the building of democracy. Training could emphasize standards of objectivity and media ethics and issues such as anti-corruption.

2. Promoting Democratic Government: Projects that demonstrate how a democratic government functions from the community to the national level. Designed for mid to upper level government officials and Parliamentarians relatively unfamiliar with the democratic process, these programs should focus on such issues as deregulation, the role of the media in a democracy, separation of powers and the government's role in social and economic development.

For the Philippines

1. Projects focused on the Philippines' capacity to assess and remedy environmental problems and on the formulation and enforcement of regulations that protect threatened land, coastal and marine resources. Since the Philippines has received international priority for assistance in reducing greenhouse gas emissions, projects that promote the use of clean fuels and renewable energy to improve efficiency in energy generation, transmission, distribution and usage are also welcomed.

2. Economic Prosperity: Projects focused on increasing market access through the liberalization of trade and investment and on expanding awareness of the potential benefits of globalization and the interconnectedness of the world economy are welcomed. As the poorest market economy in the region, the Philippines would benefit from improved economic access to the American market and U.S. exports and investments in the Philippines would also benefit. Projects that assist in the design and funding of a social welfare net for those at the bottom of the economic ladder are also solicited.

For Vietnam

1. Bilateral Trade: Proposals in the public administration of trade regimes, such as training for customs officials, product promotion of both exports and imports, port administration, accountability, tracking systems development, etc.

2. Public Health Administration: Projects that support low-cost sanitation efforts and basic health education.

ECA contact for EA programs: Steve Lebens, 202/260-5485; E-Mail{SLebens@pd.state.gov}

Near East and North Africa (NEA); South Asia (SA)

Proposals that respond to the following suggested themes and organizational approaches will be considered Near East, North Africa, and South Asia. Not all countries listed in parentheses as potential participants under the theme must be included in the exchange, and proposals for single-country projects will receive full consideration. Project proposals that bring together representatives from three or more countries will receive priority consideration. Additionally, not all components mentioned in relation to a given theme must be addressed in a proposal; the paragraphs below are intended as a stimulus to critical thinking, not as immutable frameworks.

The countries/entities comprising the NEA and SA Areas are listed below. Currently there is no U.S. mission in Afghanistan, Iran, Iraq, or Libya. Please consider countries listed (specific interest) as potential exchange partners in projects that address the theme, but recognize that all themes may be appropriate for region-wide (any country or group of countries) consideration.

Countries/Entities of the Near East and North Africa—Algeria; Bahrain; Egypt; Iran; Iraq; Israel; Jordan; Kuwait; Lebanon; Libya; Morocco; Oman; Qatar; Saudi Arabia; Syria; Tunisia; the United Arab Emirates (UAE); the West Bank and Gaza; Yemen

Countries of South Asia—Afghanistan; Bangladesh; Bhutan; India; the Maldives; Nepal; Pakistan; Sri Lanka

1. Citizen Participation and Advocacy (Building and Strengthening Non-governmental Organizations)

For India; Bangladesh; Pakistan; Nepal; Egypt; Morocco; Israel, the West Bank and Gaza; Lebanon; Syria; Saudi Arabia; Kuwait; the UAE:

Social and political activism, encouraged, focused, and channeled through non-governmental organizations, is a basic underpinning of democratic society. Strengthening NGO advocacy skills, management, grassroots support, recruitment and motivation of volunteers, fundraising and financial management, media relations, and networking for mutual support and reinforcement will strengthen democratic/civil society trends in the region. Among other emphases, this project should focus on answering questions about the proper role of NGO's, about facilitating Internet communication and about developing cooperation between educators and NGO's and between government agencies and NGO's for community action. It is essential that organizations submitting proposals in this category recognize that democratic activism is viewed with distrust by some of the governments in the area and that foreign involvement with local NGO's must be carefully thought out and approached with subtlety and sensitivity, as such involvement may be viewed with suspicion. Close consultation with American Embassy/Consulate officers is critical.

2. Women's Activism, Organizational Skills, and Political Leadership

For Egypt; India; Israel; Lebanon; Saudi Arabia; Kuwait; UAE; Bahrain; Oman; Qatar; Yemen:

This theme is also appropriate for a South Asia regional exchange or a regional project involving the countries of the Arabian Gulf. Throughout the region, women exercise disproportionately little political and social influence. While some women's groups have organized themselves and actively campaign for equal rights and a greater say in local issues, women need to learn how to develop consensus on issues and build a constituency, mobilize support—both urban/political and grassroots—raise money at the municipal, state, and national levels, and how to win elections. Once elected, at either the state or the national level, how can they most effectively represent the interests of their constituents? What can women activists do to affect policy as well as practice in the areas of health care, education, domestic violence, and equal treatment under the law? Elected women need skills training in budget, human resource management, policy analysis, legislative drafting, and fighting corruption.

3. Environmental Protection; Environmental Education; Urban Environment

For Egypt; Israel; the West Bank and Gaza; Lebanon; Bahrain; India; Nepal:

Environmental degradation undermines the quality of human life. It is closely linked, both directly and indirectly, with issues of public health (air and water pollution; solid waste management) and economic welfare (preservation of natural sites; ecotourism; agricultural productivity; the rational management of natural resources; the balance between industrial growth and environmental concerns, especially in urban areas). Pollutant-laden air and impure groundwater are trans-boundary issues, faced by all countries/entities. Projects are sought that enhance public awareness of the threat posed by environmental deterioration, that facilitate efforts to combat the threat by mobilizing either governmental or non-governmental organizations, that engage municipal officials, planners, and service providers, and that work at multiple levels to educate and to develop solutions. Of special concern to India is the need for increased awareness and training regarding the treatment and disposal of hazardous, often medical/bio-medical waste.

4. Professionalism in Media and the Strengthening of Journalistic Independence

For Israel; Jordan; the Wet Bank and Gaza; Lebanon; Tunisia; Morocco; India; Nepal; and Pakistan:

The development of professionalism in media—gaining an appreciation for the importance of objective reporting; developing subject specialization; applying rational management techniques to newspaper publishing; etc.—remains an area in which serious efforts must be expended if the fourth estate is to fulfill its potential as a pillar of democratic society. Concomitantly. Laws throughout the region constrain press freedoms' and journalists' editors' and publishers are forced to self-censor, lest governments punish the media for having conveyed the message. Projects are needed to address professionalism and to focus on training and advice to individuals and organizations devoted to the protection of press freedoms and to the defense of journalists and their right to practice their profession with integrity.

5. Rule of Law/Administration of Justice

For Nepal and Egypt:

A well-trained, independent judiciary is fundamental to a democratic political and social system. The integrity of the judicial process, affecting public confidence in the ability of the judicial process to deliver justice, must be protected from political interference. Public perception of unequal and unfair treatment before the bench of women, members of ethnic minority communities and the poor is widespread. Even well qualified and well-intentioned judges are obstructed in their efforts to deliver justice by case backlog, by procedural delay, and by insufficient authority to exercise judicial discretion in court management. It is important that judges of both lower and higher courts be introduced to the principles and practices of U.S. jurisprudence and that such fundamental procedures as alternate dispute resolution, early neutral evaluation, case management, the acceptance of guilty pleas, continuous trial proceedings, and arbitration/mediation.

For Pakistan or South Asia Regional:

In many countries the legal profession is itself a major impediment to legal reform.

Members of the bar take to the streets in semi-violent protest when the judiciary suggests reforms. Local bar associations function more as clubs than as professional institutions. Judges feel vulnerable to the legal profession and cannot formally relate to its practitioners. Proposals are sought from American institutions with experience in training members of the bench and the bar to work together to resolve such issues as performance standards (efficiency; competence; fairness of administration), ethical standards (impropriety; corruption; discrimination against specific groups, such as women or minorities), and other related concerns. The goal of such a project would be to enhance the professionalism of the judiciary, the quality of the relationship between the judiciary and the bar, and, by extrapolation, to raise the quality of the administration of justice.

For Jordan:

A project is sought to institute private sector or university-based programs to train paralegals and court administrators. Participants might be unemployed or underemployed university graduates. It would be essential to work with the Ministry of Justice, the judiciary, and the bar association to assure that the trained graduates could be integrated into the court system, with the goal of contributing to the more efficient functioning of the judicial process.

6. Public Health

Issues of public health are central to the social well-being and to the economic productivity and stability of a country. Some such issues are directly related to the physical environment; others are more appropriately addressed through the introduction of programs or the institution of educational/training designed to modify the behavior of individual citizens.

For India:

Programs are sought that will result in the modification of current practices having a deleterious impact on public health, such as inadequate or nonexistent to water treatment and purification, inadequate exhaust standards, food processing facilities, waste collection and disposal (including biomedical waste), unsterile practices at hospitals, the absence of screening at blood banks, the operation of aging smokestack industries, etc.

For Israel; the West Bank and Gaza:

Statistics in Israel indicate an alarming increase in incidents of violence in Israeli society, particularly school violence and domestic violence. Similar patterns appear to exist in the West Bank and Gaza. Educators posit that the overall violence of the Israeli-Palestinian confrontation has a spillover effect, with students acting out in the schools what they witness in the streets and at home. An exchange both to investigate the causes of increased in-school violence and to develop educational programs focused on youth and young adults—the most common perpetrators and victims of the violence—would be welcomed.

7. Combating Narcotic Abuse and Developing Positive Approaches to Rehabilitation and Re-integration

For Israel; Jordan; India:

Narcotics trafficking and abuse is an increasing problem for countries in the Near East and South Asia. There is a need for a regional project, to include educators, community leaders, medical practitioners, and drug rehabilitation experts, to work with American counterparts in building a strategy to contain the spread of drug use. Emphasis should be placed on dealing with the issue on a community level, and there should be a focus on rehabilitation and the re-integration into society of former addicts through such undertakings as job skills training programs and family and community support efforts including initiatives and mechanisms for minimizing the likelihood of relapse.

For India:

NGO's in India dealing with substance abuse have adopted diverse approaches to treatment, follow-up, aftercare, and rehabilitation. The greatest problem they face is the relapse of recovering addicts. The three major NGO's in this field in Calcutta are interested in working with American specialists who can provide updated strategies of relapse prevention. Similarly these NGO's need to develop low-cost but effective “care and support” programs for HIV positive individuals, including counseling training.

8. Good Governance

For Morocco and Nepal:

Although concepts such as good governance and ethics, transparency, responsiveness, and the fight against corruption play an increasing role in public debates, in the media, and in regional conferences, there is little evidence of reform. The populace, experiencing abuses of power and corruption on a daily basis, lacks confidence in its institutions. A proposal is sought that would assist in the development of mechanisms of control to counteract corruption. The American NGO would work with indigenous NGO's, citizens' rights groups, journalists, human rights organizations, and government officials to determine how best to expose and combat corruption. Success in making government at all levels accountable and transparent would contribute greatly toward the development of democratic institutions and civic responsibility and would encourage increased foreign investment.

For India and Jordan:

With the creation of new governmental units in some countries and the increasing need for more sophisticated knowledge and skills among legislators and professional parliamentary staff in others, there is a need for training both elected officials and professional staff in management and research skills, legislative drafting, program analysis, and computer skills.

9. Conflict Management/Resolution

For Jordan:

The absence of local or neighborhood dispute resolution centers staffed by individuals trained in mediation, minor disputes, often within families or between neighbors, may escalate into formal conflict, enter the legal system, and evolve into win-lose situations. A project is sought to establish and provide support—training; administrative skills development—for local alternative dispute resolution efforts.

For Israel; the West Bank and Gaza; India; Pakistan; Lebanon; Sri Lanka:

A community that must expend its time, its energy, and its material resources on offensive or defensive combat is unable to develop or maintain a civil basis for democratic institutions. Projects are sought that will focus on redefining inter-communal conflict in specific situations and, through facilitating dialogue—among teachers, professionals, businesspersons, journalists, community activists—promote better understanding among parties in conflict.

10. Human Rights

For Nepal:

Following the establishment of democracy, the government of Nepal made various commitments to ensure the rights of women and children. Diverse organizations are available to work with American specialists in the areas of child labor and trafficking in women and children. A proposal is sought to work with Nepalese counterparts in combating child labor and in promoting the rights of women and children in an environment in which trafficking remains a major threat.

ECA/PE/C/NEA contact for NEA and SA programs: Thomas Johnston, 202/619-5325;{tjohnsto@pd.state.gov} or Susan Krause, 202/619-5332; {skrause@pd.state.gov}

Western Hemisphere Affairs (WHA)

The Bureau of Western Hemisphere Affairs includes the countries of Canada, Mexico, Central and South America, and the Caribbean.

For All of WHA

We welcome proposals which contribute to strengthening democratic institution building; administration of justice, including exchanges of judges and prosecutors and between associations and NGOs promoting justice; law enforcement, including community-based anti-gang or anti-drug organizations; and economic reform, free trade and regional economic integration, sustainable development, environmental education, public administration, and municipal government for all countries in the region. In addition, we welcome proposals that improve civil rights for Afro-Latino minorities in the region, with special attention to the goals of economic development and full participation in their nation's democratic institutions and civic life. For the countries mentioned below, some preference may be given to proposals that track closely the following suggestions:

For Mexico

We welcome proposals that would create opportunities for Mexican and U.S. cities to better understand how effective communities can and do resolve problems via strategic planning and implementation. Project activities might focus on how municipal teams, including government officials, educational leaders, NGOs, business leaders, etc., join forces to develop approaches to economic development or solutions to major problems (environment, crime, drug use, etc.) Ideally, participants will be involved in this kind of strategic committee and will share ideas, successes, and challenges from the two countries.

For Brazil

We welcome proposals for projects designed to work with the Brazilian judiciary and legal establishment on implementing alternative dispute resolution, particularly mediation, in the country.

For El Salvador

We welcome proposals that involve participants in development of public environmental education campaigns in which the private sector, media and NGOs play important roles in the fields of promoting and implementing programs on resource conservation, recycling in areas outside the major metropolitan areas and sustainable development. Special focus should be devoted towards the strengthening of local Salvadoran environmental NGOs, many of which do not have the personnel or resources to support large-scale public environmental education projects. Competitive proposals should emphasize preventive maintenance and regular cleaning of water drainage systems during the rainy season (May-November).

For Costa Rica, Honduras and Panama

We welcome proposals that involve participants in developing environmental education programs in schools and to the public with use of the media and/or with selected municipalities, capitalizing on the new interest of fledgling NGO environmental groups. Hurricane Mitch's destruction raised awareness throughout Central America of the potential for deforestation to intensify the severity of natural disasters. A particularly vulnerable area is the Panama Canal Watershed, whose protection is vital to ensuring adequate water supply for the functioning of the Canal. In Panama there is growing public awareness that the time for action is now and that education is the key. Therefore, for Panama we welcome proposals that focus on environmental education in the public schools as well as community-based projects on recycling, resource conservation, and sustainable development.

For Nicaragua and Guatemala

We welcome projects that work to strengthen institutions of government whose work has a direct impact on the quality of a country's democracy and to increase their transparency, accountability, and responsiveness, and effectiveness of operations. Especially welcome would be proposals that address anti-corruption methods. Projects might focus on local government or elements of executive branches, legislatures, or judicial systems. One example might be an exchange for local mayors to see innovations in city government and citizen participation in municipal affairs, with a return visit by a group of U.S. mayors and city managers and municipal experts to hold larger workshops on the same theme.

For Peru

We welcome proposals on decentralization and resource management issues for local government. Competitive proposals should include an exchange for a group of local mayors and other decentralization specialists who would meet with U.S. local government representatives, businesses and neighborhood groups in order to gain a more in-depth understanding of local government in the U.S.

For Jamaica

We welcome proposals that would create opportunities for Jamaican communities to better understand how to resolve problems via citizen participation and multi-sectoral cooperation. Project activities might focus on how municipal teams, including NGOs, civic and educational leaders, government officials, business leaders, media, etc., join forces to develop approaches to economic development or solutions to major problems (crime, HIV/AIDS, domestic violence, drug use, environment, etc.). Of special interest are programs that encourage participation and leadership by women and youth at risk.

For Haiti

We welcome proposals for the strengthening of civil society organizations.

ECA/PE/C/WHA/EAP contact for WHA programs: Laverne Johnson, 202/619-5337; E-Mail {LJohnson@pd.state.gov}

Central and Eastern Europe (CEE) and the Newly Independent States (NIS)

Requests for proposals involving the following countries will be announced in separate competitions: CEE—Albania, Bosnia-Herzegovina, Bulgaria, Croatia, Czech Republic, Estonia, Hungary, Latvia, Lithuania, Macedonia, Poland, Romania, Slovak Republic, and Slovenia; NIS—Armenia, Azerbaijan, Belarus, Georgia, Kazakhstan, Kyrgyzstan, Moldova, Russia, Tajikistan, Turkmenistan, Ukraine, and Uzbekistan. Proposals involving these regions WILL NOT be accepted under this competition.

Western Europe (WEU)

Proposals involving this region WILL NOT be accepted under this competition.

Selection of Participants

All grant proposals should clearly describe the type of persons who will participate in the program as well as the process by which participants will be selected. It is recommended that programs in support of U.S. internships include letters tentatively committing host institutions to support the internships. In the selection of foreign participants, the Bureau and U.S. Embassies abroad retain the right to review all participant nominations and to accept or deny participants recommended by grantee institutions. However, grantee institutions should describe in detail the recruitment and selection process they recommend. The grantee institution will also provide the names of American participants and brief (two pages) biographical data on each American participant to the Office of Citizen Exchanges for information purposes. Priority will be given to foreign participants who have not previously traveled to the United States.

Guidelines

The Office of Citizen Exchanges works with U.S. private sector and governmental, non-profit organizations on cooperative international group projects that introduce American and foreign participants to each others' social, economic, and political structures and international interests. The Office supports international projects in the United States or overseas involving leaders or potential leaders in the following fields and professions: urban planners, jurists, specialized journalists (specialists in economics, business, environmental, political analysis, international affairs), business professionals, NGO and community leaders, environmental specialists, parliamentarians, educators, economists, and other government officials

The themes addressed in exchange programs must be of long-term importance rather than focused exclusively on current events or short-term issues. In every case, a substantial rationale must be presented as part of the proposal, one that clearly indicates the distinctive and important contribution of the overall project, including, where applicable, the expected yield of any associated conference. Projects that duplicate what is routinely carried out by private sector and/or public sector operations will not be considered. All applicants should contact the Office of Citizen Exchanges to discuss program concepts prior to proposal submission. In addition, applicants are encouraged to contact the Public Affairs Sections in U.S. Embassies to discuss proposed activities and their relevance to mission priorities.

Bureau-supported projects may include internships; study tours; short-term, non-technical training; and extended, intensive workshops taking place in the United States or overseas. Examples of possible program activities include:

1. A U.S.-based program that includes: orientation to program purposes and to U.S. society; study tour/site visits; professional internships/placements; interaction and dialogue; hands-on training; professional development; and action plan development.

2. Capacity-building/training-of-trainer (TOT) workshops to help participants to identify priorities, create work plans, strengthen professional and volunteer skills, share their experience to committed people within each country, and become active in a practical and valuable way.

3. Seed/small grants to indigenous non-profit organizations to support community-based educational projects that build upon exchange activities and that address issues of local concern. Projects may include a component for a Seed/Small Grants Competition (often referred to as ‘sub-grants’ or ‘secondary grants’). This requires a detailed plan for recruitment and advertising; description of the proposal review and award mechanism; a plan for how the grantee would monitor and evaluate small grant activity; and a proposed amount for an average grant. The small grants should be directly linked to exchange activities.

4. Site visits by U.S. facilitators/experts to monitor projects in the region and to provide additional training and consultations as needed.

5. Content-based Internet training/ cyber-training to encourage citizen participation in workshops, fora, chats, and/or discussions via the Internet that will stimulate communication and information sharing among key opinion leaders on priority topics as a form of cost sharing. Proposals that include Internet utilization must reflect knowledge of the opportunities and obstacles that exist for use of information technologies in the target country or countries, and, if needed, provide hardware, software and servers, preferably as a form of cost sharing. Federal standards are under review and their adoption may impact on the implementation of these programs.

The Office of Citizen Exchanges strongly encourages the coordination of activities with respected universities, professional associations, and major cultural institutions in the U.S. and abroad, but particularly in the U.S. Projects should be intellectual and cultural, not technical. Vocational training (an occupation other than one requiring a baccalaureate or higher academic degree; i.e., clerical work, auto maintenance, etc., and other occupations requiring less than two years of higher education) and technical training (special and practical knowledge of a mechanical or a scientific subject which enhances mechanical, narrowly scientific, or semi-skilled capabilities) are ineligible for support. In addition, scholarship programs are ineligible for support.

The Office does not support proposals limited to conferences or seminars (i.e., one to fourteen-day programs with plenary sessions, main speakers, panels, and a passive audience). It will support conferences only insofar as they are part of a larger project in duration and scope that is receiving Bureau funding from this competition. The Office does support workshops, seminars and training sessions that are an integral part of a larger project. No funding is available exclusively to send U.S. citizens to conferences or conference-type seminars overseas; nor is funding available for bringing foreign nationals to conferences or to routine professional association meetings in the United States.

Additional Guidance

The Office of Citizen Exchanges offers the following additional guidance to prospective applicants:

1. The Office of Citizen Exchanges encourages project proposals involving more than one country. Pertinent rationale that links countries in multi-country projects should be included in the submission. Single-country projects that are clearly defined and possess the potential for creating and strengthening continuing linkages between foreign and U.S. institutions are also welcome.

2. Proposals are subject to review and comment by the U.S. Embassy representative in the relevant country, and pre-selected participants will also be subject to Embassy review and approval.

3. Programs should clearly identify any counterpart organization(s) mentioned in the proposal and provide evidence of the organization's participation.

4. The Office of Citizen Exchanges will consider proposals for activities that take place exclusively in other countries when U.S. Embassies are consulted in the design of the proposed program and in the choice of the most suitable venues for such programs.

5. Office of Citizen Exchanges grants are not given under this RFGP to support projects whose focus is limited to technical or vocational subjects, or for research projects, for publications funding, for student and/or teacher/faculty exchanges, for sports and/or sports related programs. Nor does this office provide scholarships or support for long-term (a semester or more) academic studies. Competitions sponsored by other Bureau offices are also announced in the Federal Register.

For projects that would begin after December 31, 2002, competition details will be announced in the Federal Register on or about June 1, 2002. Inquiries concerning technical requirements are welcome prior to submission of applications.

Funding and Cost Sharing

Although there are not set funding limits, proposals for less than $165,000 will receive preference. Organizations with less than four years of successful experience in managing international exchange programs are limited to $60,000. Applicants are invited to provide both an all-inclusive budget as well as separate sub-budgets for each program component, phase, location, or activity in order to facilitate Bureau decisions on funding. While an all-inclusive budget must be provided with each proposal, separate component budgets are optional. Competition for Bureau funding support is keen.

The selection of grantee institutions will depend on program substance, cross-cultural sensitivity, and ability to carry out the program successfully. Since Bureau grant assistance constitutes only a portion of total project funding, proposals should list and provide evidence of other anticipated sources of financial and in-kind support. Proposals with substantial private sector support from foundations, corporations, and other institutions, will be deemed highly competitive. The Recipient must provide a minimum of 33 percent cost sharing of the total project cost.

The following project costs are eligible for consideration for funding:

1. Travel costs. International and domestic airfares; visas; transit costs; ground transportation costs. Please note that all air travel must be in compliance with the Fly America Act. There is no charge for J-1 visas for participants in Bureau sponsored programs.

2. Per Diem. For the U.S. program, organizations have the option of using a flat $160/day for program participants or the published U.S. Federal per diem rates for individual American cities. For activities outside the U.S., the published Federal per diem rates must be used. Note: U.S. escorting staff must use the published Federal per diem rates, not the flat rate. Per diem rates may be accessed at http://www.policyworks.gov/.

3. Interpreters: If needed, interpreters for the U.S. program are available through the U.S. Department of State Language Services Division. Typically, a pair of simultaneous interpreters is provided for every four visitors who need interpretation. Bureau grants do not pay for foreign interpreters to accompany delegations from their home country. Grant proposal budgets should contain a flat $160/day per diem for each Department of State interpreter, as well as home-program-home air transportation of $400 per interpreter plus any U.S. travel expenses during the program. Salary expenses are covered centrally and should not be part of an applicant's proposed budget. Locally arranged interpreters with adequate skills and experience may be used by the grantee in lieu of State Department interpreters, with the same 1:4 interpreter to participant ratio. Costs associated with using their services may not exceed rates for U.S. Department of State interpreters.

4. Book and cultural allowance: Foreign participants are entitled to and escorts are reimbursed a one-time cultural allowance of $150 per person, plus a participant book allowance of $50. U.S. program staff members are not eligible to receive these benefits.

5. Consultants. Consultants may be used to provide specialized expertise or to make presentations. Honoraria generally do not exceed $250 per day. Subcontracting organizations may also be used, in which case the written agreement between the prospective grantee and subcontractor should be included in the proposal. Subcontracts should be itemized in the budget.

6. Room rental. Room rental may not exceed $250 per day.

7. Materials development. Proposals may contain costs to purchase, develop, and translate materials for participants.

8. Equipment. Proposals may contain limited costs to purchase equipment crucial to the success of the program, such as computers, fax machines and copy machines. However, equipment costs must be kept to a minimum, and costs for furniture are not allowed.

9. Working Meal. The grant budget may provide for only one working meal during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. This may be used for incidental expenses incurred during international travel.

11. Health Insurance. Foreign participants will be covered under the terms of a U.S. Department of State-sponsored health insurance policy. The premium is paid by the U.S. Department of State directly to the insurance company. Applicants are permitted to include costs for travel insurance for U.S. participants in the budget.

12. Administrative Costs. Costs necessary for the effective administration of the program may include salaries for grant organization employees, benefits, and other direct or indirect costs per detailed instructions in the Solicitation Package. Note: the 20 percent limitation of “administrative costs” included in previous announcements does not apply to this RFP. Please refer to the Solicitation Package for complete budget guidelines.

Review Process

All proposals will be forwarded to panels of Bureau officers for advisory review. The program office will review each proposal. U.S. Embassy officers will also review proposals, where appropriate. Proposals may also be reviewed by the Office of the Legal Advisor or by other offices in the Department of State. Final funding decisions are at the discretion of the Department of State's Acting Assistant Secretary for Educational and Cultural Affairs. Final technical authority for grants resides with the Bureau's Grants Officer.

Review Criteria

The Bureau will consider proposals based on their conformance with the objectives and considerations already stated in this RFP, as well as the following criteria:

1. Quality of Program Idea: Proposals should exhibit originality, substance, precision, and relevance to the Agency mission.

2. Program Planning/Ability to Achieve Program Objectives: Detailed agenda and relevant work plan should demonstrate substantive undertakings and logistical capacity. Agenda and plan should adhere to the program overview and guidelines described above. Objectives should be reasonable, feasible, and flexible. Proposals should clearly demonstrate how the institution will meet the program objectives and plan.

3. Multiplier Effect/Impact: Proposed programs should strengthen long-term mutual understanding, including maximum sharing of information and establishment of long-term institutional and individual linkages.

4. Support of Diversity: Proposals should demonstrate the substantive support of the Bureau's policy on diversity. Program content (training sessions, resource materials, follow-on activities) and program administration (participant selection process, orientation, evaluation, resource/staff persons) should address diversity in a comprehensive and innovative manner. Applicants should refer to the Bureau's Diversity, Freedom and Democracy Guidelines on page four of the Proposal Submission Instructions (PSI).

5. Institutional Capacity/Reputation/Ability: Proposed personnel and institutional resources should be adequate and appropriate to achieve the program's or project's goal. Proposals should demonstrate an institutional record of successful exchange programs, including responsible fiscal management and full compliance with all reporting requirements for past Bureau grants as determined by the Bureau's Office of Contracts. The Bureau will consider the past performance of prior recipients and the demonstrated potential of new applicants.

6. Follow-on Activities: Proposals should provide a plan for continued follow-on activity (without Bureau support) that ensures that Bureau-supported programs are not isolated events.

7. Evaluation Plan: Proposals should provide a plan for a thorough and objective evaluation of the program/project by the grantee institution.

8. Cost-Effectiveness/Cost Sharing: The overhead and administrative components of the proposal, including salaries and honoraria, should be kept as low as possible. All other items should be necessary and appropriate. Proposals should maximize cost-sharing through other private sector support as well as institutional direct funding contributions.

Deadline for Proposals

The Bureau of Educational and Cultural Affairs must receive all copies by 5 p.m. Washington, DC time on Friday, October 5, 2001. Faxed documents will not be accepted at any time. Documents postmarked by the due date but received at a later date will not be accepted. It is the responsibility of each grant applicant to ensure that proposals are received by the above deadline. This action is effective from the publication date of this notice through October 5, 2001, for projects where activities will begin between April 1, 2002 and December 31, 2002.

To Download a Solicitation Package Via Internet

The Solicitation Package may be downloaded from Department of State's website at http://exchanges.state.gov/education/rfgps/. Please read all information before beginning to download.

Addresses

Applicants must follow all instructions in the Solicitation Package. The original and 10 copies should be sent to: U.S. Department of State, SA-44, Bureau of Educational and Cultural Affairs, REF: ECA/PE/C/-02-1 Annual Open Grant Competition, Program Management, ECA/EX/PM, 301 4th Street, SW., Room 534, Washington, DC 20547.

Applicants must also submit to E/XE the “Executive Summary” and “Proposal Narrative” of each proposal on a 3.5″ diskette, formatted for DOS. This material must be provided in ASCII text (DOS) format with a maximum line length of 65 characters. The Bureau will transmit these files electronically to U.S. embassies overseas for their review, with the goal of reducing the time it takes to get the respective Embassy's comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Authority

Overall grant making authority for this program is contained in the Mutual Educational and Cultural Exchange Act of 1961, Public Law 87-256, as amended, also known as the Fulbright-Hays Act. The purpose of the Act is “to enable the Government of the United States to increase mutual understanding between the people of the United States and the people of other countries; * * * to strengthen the ties which unite us with other nations by demonstrating the educational and cultural interests, developments, and achievements of the people of the United States and other nations * * * and thus to assist in the development of friendly, sympathetic and peaceful relations between the United States and the other countries of the world.”

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the need of the program and the availability of funds. Organizations will be expected to cooperate with the Bureau in evaluating their programs under the principles of the Government Performance and Results Act of 1993, which requires federal agencies to measure and report on the results of their programs and activities.

Notification

Final awards cannot be made until funds have been fully appropriated by the Congress, allocated, and committed through internal Bureau procedures. Grant awards will be announced after February 1, 2002.

Dated: June 28, 2001.
Helena Kane Finn,
Acting Assistant Secretary for Educational and Cultural Affairs, Department of State.

[FR Doc. 01-16836 Filed 7-3-01; 8:45 am]

BILLING CODE 4710-05-P